DEPARTMENT OF DEFENSE

Office of the Secretary

Program for Construction, Renovation, Repair or Expansion of Public Schools Located on Military Installations

AGENCY: Office of Economic Adjustment (OEA), Department of Defense (DoD).

ACTION: Notice.

SUMMARY: The Secretary of Defense was previously authorized to establish a limited program to construct, renovate, repair, or expand elementary and secondary public schools on military installations in order to address capacity or facility condition deficiencies at such schools. Pursuant to Section 8108 of Public Law 113-6, the Consolidated and Further Continuing Appropriations Act, 2013, Congress made available an additional $270 million for the program and added a new eligibility criterion. This notice explains the additional criterion and the procedures for the DoD program, administered by OEA, to distribute the $270 million.

DATES: Not applicable. Funds will be distributed until exhausted, as described in the Federal Register notice dated September 9, 2011 (76 FR 55883-55886) and this notice.

ADDRESSES: Not applicable. Appropriate information will be provided directly to invited applicants.

FOR FURTHER INFORMATION CONTACT: David F. Witschi, Associate Director, OEA, telephone: (703) 697-2130, email: david.witschi@wso.whs.mil.

SUPPLEMENTARY INFORMATION: Please refer to the Federal Funding Opportunity Title: Department of Defense Program for Construction, Renovation, Repair or Expansion of Public Schools Located on Military Installations.

Announcement Type: Federal Funding Opportunity.

Catalog of Federal Domestic Assistance (CFDA) Number: 12.600.

Date: September 9, 2011.

The Secretary of Defense is authorized by Section 8108 of Public Law 113-6, the Consolidated and Further Continuing Appropriations Act, 2013, and is choosing to act through OEA, to provide up to $270 million “to make grants, conclude cooperative agreements, or supplement other Federal funds to construct, renovate, repair, or expand elementary and secondary public schools on military installations in order to address capacity or facility condition deficiencies at such schools: Provided further, that in making such funds available, OEA shall give priority consideration to those military installations with schools having the most serious capacity or facility condition deficiencies as determined by the Secretary of Defense: Provided further, that funds may not be made available for a school unless its enrollment of Department of Defense-connected children is greater than 50 percent.

Section 8109 of Public Law 112-10, the Department of Defense and Full-Year Continuing Appropriations Act, 2011, and Section 8118 of Public Law 112-74, the Consolidated Appropriations Act, 2012, previously provided a total of $500 million to construct, renovate, repair, or expand elementary and secondary public schools on military installations. OEA announced procedures for administering this program in a Federal Register notice dated September 9, 2011 (76 FR 55883-55886). This notice explains an additional project eligibility criterion applicable to the additional $270 million provided by Congress pursuant to Section 8108 of Public Law 113-6.

1. Additional Eligibility Criteria applicable to the $270 million provided by Section 8108 of Public Law 113-6:

a. Funds may not be made available to a school unless its enrollment of defense-connected children is greater than 50%.

b. For the purposes of this program, the term “Defense-connected children” is defined as children of a uniformed Military Service member, and children who have a parent who is both a civilian and works on a military installation.

c. The determination of compliance with this criterion will be based on Fiscal Year 2012 school enrollment data reported to the U.S. Department of Education by May 1, 2013.

2. The additional criterion described above is not applicable to funding previously provided under Section 8109 of Public Law 112-10, the Department of Defense and Full-Year Continuing Appropriations Act, 2011, or Section 8118 of Public Law 112-74, the Consolidated Appropriations Act, 2012.

3. All other information announced in the September 9, 2011 notice, including proposal and application submission information, remains unchanged.

4. Agency Contacts.

For further information, to answer questions regarding this notice, or for help with problems, contact: David F. Witschi, OEA Associate Director, telephone: (703) 697-2130, email: david.witschi@wso.whs.mil or regular mail at 2231 Crystal Drive, Suite 520, Arlington, VA 22202-3711.

5. Other Information.

The OMB Control Number for information collection related to this notice is 0790-0006; expires July 31, 2015.

The OEA Internet address is http://www.oea.gov.

Dated: April 23, 2013.
Aaron Siegel,
Alternate OSD Federal Register Liaison Officer, Department of Defense.

[FR Doc. 2013-10031 Filed 4-26-13; 8:45 am]

BILLING CODE 5001-06-P